CONSUMER PRODUCT SAFETY COMMISSION

[Docket No. CPSC-2024-0035]

Agency Information Collection Activities; Extension of Approval of Information Collection; Child Strength Study

AGENCY: Consumer Product Safety Commission.

ACTION: Notice of Information Collection; Request for Comment.

SUMMARY: As required by the Paperwork Reduction Act of 1995, the Consumer Product Safety Commission (CPSC or Commission) announces that the Commission has submitted to the Office of Management and Budget (OMB) a request for extension of approval of a generic collection of information for a strength data collection study. OMB previously approved the collection of information under Control Number 3041-0003. OMB's most recent extension of approval will expire on January 31, 2025. On October 24, 2024, CPSC published a notice in the Federal Register to announce the agency's intention to seek extension of approval of the collection of information. The Commission received one comment, which was out of scope. Therefore, by publication of this notice, the Commission announces that CPSC has submitted to the OMB a request for extension of approval of that collection of information.

DATES: Submit comments on the collection of information by January 30, 2025.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Written comments that are sent to OMB also should be submitted electronically at http://www.regulations.gov, under Docket No. CPSC-2024-0035.

FOR FURTHER INFORMATION CONTACT: Cynthia Gillham, Consumer Product Safety Commission, 4330 East West Highway, Bethesda, MD 20814; (301) 504-7791, or by email to: pra@cpsc.gov.

SUPPLEMENTARY INFORMATION: CPSC seeks to renew the following currently approved generic collection of information:

Title: Child Strength Study.

OMB Number: 3041-0187.

Type of Review: Renewal of generic collection.

Frequency of Response: On occasion.

Affected Public: Child participants and their caregivers.

Estimated Number of Respondents: We estimate 5,210 people will be invited for the study and 1,563 initial respondents will complete screening. Out of the initial respondents, 563 are expected to be screened out or not expected to ultimately participate after the invitation for study. We estimate that there will be 1,000 participants for the lab portion of the study.

Estimated Time per Response: The estimated time to complete a study session is 2 hours per participant. This does not account for the time for inviting and screening participants via phone conversations with the caregiver, which is an additional 12 minutes per respondent.

Total Estimated Annual Burden: Based on CPSC's estimates that 5,210 people will be invited for the study (3 minutes per invite), 1,563 initial respondents will complete screening (9 minutes per screening) and there will be 1,000 participants for the lab portion of the study (2 hours to complete each study session), CPSC estimates that the total burden of this collection is 2,267 hours. The average annual burden is approximately 756 hours; however, because of study timing and efficiency, a single year could have up to 1,850 burden hours. There are no costs to respondents and no respondent recordkeeping requirements associated with the study.

General Description of Collection: CPSC uses data on human strength and capabilities to develop consumer product safety standards and to inform other CPSC staff activities. Strength capabilities of children are used to develop product performance requirements in standards to reduce or eliminate the risk such products might pose to a child (e.g., a product breaking or collapsing, or liberation of a small part). The information to be collected from child participants ranging in age 3 months to 5 years includes contact and background information necessary to participate in a study to obtain child strength measures for upper and lower extremities and bite strength. Written consent is obtained from caregivers and verbal assent is obtained from children who are old enough to provide it. Researchers will obtain several standard anthropometric measurements from each child, including body weight and standing height. Researchers also record the participant's body shape using a whole-body laser scanner (VITUS XXL) and a Microsoft Kinect sensor.

Elina Lingappa,
Paralegal Specialist, Consumer Product Safety Commission.

[FR Doc. 2024-31421 Filed 12-30-24; 8:45 am]

BILLING CODE 6355-01-P